DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 31, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: 7 CFR part 220, School Breakfast Program.

OMB Control Number: 0584-0012.

Summary of Collection: Section 4 of the Child Nutrition Act (CNA) of 1966 (42 U.S.C. 1773) authorizes the School Breakfast Program as a nutrition assistance program and authorizes payments to States to assist them to initiate, maintain, or expand nonprofit breakfast programs in schools. The provision requires that “Breakfasts served by schools participating in the School Breakfast Program under this section shall consist of a combination of foods and shall meet minimum nutritional requirements prescribed by the Secretary on the basis of tested nutritional research.” The School Breakfast Program is administered and operated in accordance with the National School Lunch Act (NSLA). The Program is administered at the State and local levels, including school district and school site levels, and the operations include the submission and approval of applications to participate in the program, execution of agreements, record maintenance, submission of claims, payment of claims, monitoring procedures, and providing technical assistance.

Need and Use of the Information: This collection is mandatory to administer and operate this program in accordance with the authorizing statutes. States, school food authorities (SFAs), and schools are required to keep accounts and records as may be necessary to enable FNS to determine whether the program is in compliance. SFAs collect breakfast counts from the schools so that they can submit claims and related information to the State agencies. The State agencies then report this information to FNS. The State agencies, the SFAs, and the schools also maintain records related to the School Breakfast Program. FNS uses the information to monitor State agency and SFA compliance, determine the amount of funds to be reimbursed, evaluate and adjust program operations, and to monitor program funding and program trends.

Description of Respondents: State, Local, or Tribal Government.

Number of Respondents: 105,700.

Frequency of Responses: Recordkeeping; Reporting: On occasion; Monthly, Annually, Other (Daily Meal Records)

Total Burden Hours: 3,736,676.

Levi Harrell,
Departmental Information Collection Clearance Officer.

[FR Doc. 2022-09074 Filed 4-27-22; 8:45 am]

BILLING CODE 3410-30-P